DEPARTMENT OF ENERGY

Federal Energy Regulatory Commission

Notice of Effectiveness of Exempt Wholesale Generator or Foreign Utility Company Status

June 18, 2007.

| Docket no.
Navasota Odessa Energy Partners LP | EG07-41-000
Navasota Wharton Energy Partners LP | EG07-42-000
Sleeping Bear, LLC | EG07-43-000
Altura Power L.P., | EG07-44-000
Hidroelectrica El Chocon S.A. | FC07-12-000
Centrales Termicas Mendoza S.A. | FC07-13-000
Centrales Termicas San Nicolas, S.A. | FC07-14-000
CMS Ensenada S.A. | FC07-16-000
Terasen Gas Inc. | FC07-19-000
Terasen Gas (Vancouver Island) Inc. | FC07-20-000
CMS (India) Operation & Maintenance Company Private Limited | FC07-21-000
CMS International Operating Company | FC07-22-000
ST-CMS Electric Company Private Limited | FC07-23-000
Jorf Lasfar Energy Company SCA | FC07-24-000
Shuweihat O&M Limited Partnership | FC07-25-000
Jubail Energy Company | FC07-26-000
CMS Morocco Operating Company SCA | FC07-27-000
Shuweihat CMS International Power Company | FC07-28-000
Takoradi International Company | FC07-29-000

Take notice that during the month of May 2007, the status of the above-captioned entities as Exempt Wholesale Generators or Foreign Utility Companies became effective by operation of the Commission's regulations. 18 CFR 366.7(a).

Kimberly D. Bose,
Secretary.

[FR Doc. E7-12180 Filed 6-22-07; 8:45 am]

BILLING CODE 6717-01-P